DEPARTMENT OF THE INTERIOR

Bureau of Land Management

[LLCAD070000 L16100000.DP0000]

Notice of Re-Opening of Comment Period for the Draft Imperial Sand Dunes Recreation Area Management Plan and Draft Environmental Impact Statement, California

AGENCY: Bureau of Land Management, Interior.

ACTION: Notice.

SUMMARY: The Bureau of Land Management (BLM) announces the re-opening of the comment period on the Draft Imperial Sand Dunes Recreation Area Management Plan (RAMP) and Draft Environmental Impact Statement (EIS). The original notice published in the Federal Register on March 26, 2010 [75 FR 14623] provided for a comment period ending on June 24, 2010. The BLM is re-opening the comment period to end on August 9, 2010.

DATES: To assure that comments will be considered, the BLM must receive written comments on the Draft RAMP/EIS by August 9, 2010.

ADDRESSES: You may submit comments at the public meetings or by any of the following methods:

• E-mail: caisdrmp@ca.blm.gov.

• Fax: (760) 337-4490.

• Mail: 1661 So. 4th St., El Centro, California 92243.

Copies of the Draft Imperial Sand Dunes RAMP/EIS are available in the El Centro Field Office at the above address and at the BLM California State Office, 2800 Cottage Way, Sacramento, California 95825. Interested persons may also review the Draft Resource Management Plan (RMP)/EIS at the following Web site: http://www.blm.gov/en/fo/elcentro.

FOR FURTHER INFORMATION CONTACT: Tom Zale, BLM El Centro Field Office, 1661 S. 4th Street, El Centro, CA 92243. (760) 337-4400.

SUPPLEMENTARY INFORMATION: The original Notice of Availability provided for comments on the Draft RMP/Draft EIS to be received through June 24, 2010. The BLM is re-opening the comment period to accommodate numerous requests for additional time to review the document, given the complexity of the plan, and the broad public interest in its outcome. Comments on the Draft RMP and EIS will now be accepted through August 9, 2010. Before including your address, phone number, e-mail address, or other personal identifying information in your comment, you should be aware that your entire comment—including your personal identifying information—may be made publicly available at any time. While you can ask us in your comment to withhold your personal identifying information from public review, we cannot guarantee that we will be able to do so.

Authority: 40 CFR 1503.1 and 1506.6, and 43 CFR 1610.2.

Thomas Pogacnik,
Deputy State Director, Natural Resources.

[FR Doc. 2010-19051 Filed 8-2-10; 8:45 am]

BILLING CODE 4310-40-P